DEPARTMENT OF ENERGY

Federal Energy Regulatory Commission

[Project No. 12790-001]

Pomperaug Hydro Project, Andrew Peklo III; Notice Establishing Deadline for Comments and Reply Comments

On December 15, 2011, the Commission issued notice that Office of Energy Projects staff will hold a site visit and technical meeting on January 18, 2012. The meeting will be transcribed by a court reporter and all oral comments made at the meeting will be included in the public record. Any written comments should be filed by February 17, 2012, and any reply comments must be filed by March 5, 2012. If you have questions about filing comments, please contact Steve Kartalia at (202) 502-6131, or via email at stephen.kartalia@ferc.gov.

Dated: January 12, 2012.
Kimberly D. Bose,
Secretary.

[FR Doc. 2012-1082 Filed 1-19-12; 8:45 am]

BILLING CODE 6717-01-P